DEPARTMENT OF THE INTERIOR

National Park Service

Draft Environmental Impact Statement for the Marin Headlands-Fort Baker, Transportation Infrastructure and Management Plan, Golden Gate National Recreation Area, Marin County, CA; Notice of Availability

SUMMARY: Pursuant to section 102(2)(C) of the National Environmental Policy Act of 1969 (Pub. L. 91-190, 42 U.S.C. 4321-4347, January 1, 1970, as amended), and the Council on Environmental Quality Regulations (40 CFR parts 1500 through 1508), the National Park Service, Department of the Interior, has prepared a Draft Environmental Impact Statement for the Marin Headlands-Fort Baker Transportation Infrastructure and Management Plan. The project would provide greater access to and within the Marin Headlands and Fort Baker areas for a variety of users in a way that minimizes or avoids impacts to the rich natural diversity and cultural resources of these areas within Golden Gate National Recreation Area (GGNRA). Roadway infrastructure would be rehabilitated or reconstructed with non-character altering roadway widening, and parking facilities would be improved. Additional transit options would be provided to and within areas to improve access to visitor sites. Pedestrian and bicycle facilities would be improved through closure and rerouting of existing trails and construction of new trails. A successful project would meet the following goals: (1) Promote public transit, pedestrian, and bicycle travel to and within GGNRA to improve visitor experience and enhance environmental quality; (2) Rehabilitate the Marin Headlands-Fort Baker transportation road and trail infrastructure in a manner that protects resources and improves safety and circulation; (3) Reduce traffic congestion at key GGNRA locations and connecting roads.

Proposal and Alternatives: As noted, this Draft Environmental Impact Statement (EIS) describes and analyzes four alternatives. Alternative 1, the No Action Alternative, would not deviate from the existing management direction; it serves as an environmental baseline from which potential effects of the three “action” alternatives may be compared. Alternative 2 would provide basic multi-modal access. Roadway infrastructure would be rehabilitated within the existing roadway width; parking facilities would be improved; transit service to the Marin Headlands would be expanded on weekends; and minor pedestrian and bicycle facility enhancements would be implemented to improve access to these GGNRA areas. Alternative 4 would provide maximum multi-modal access. Roadway infrastructure would be reconstructed throughout the study area, and parking facilities would be improved. Transit options would include the addition of connections to regional transit centers outside of GGNRA. Extensive pedestrian and bicycle facility enhancements would be implemented, including closure and rerouting of existing trails, construction of new trails, and road widening to allow for bicycle lane construction on nearly all major roads.

Alternative 3 is the Agency Preferred alternative. Alternative 3 would provide enhanced multi-modal access. Roadway infrastructure would be rehabilitated or reconstructed with non-character altering roadway widening, and parking facilities would be improved. Additional transit options would be provided to and within the Marin Headlands and Fort Baker (MH/FB) areas to improve access. Pedestrian and bicycle facilities would be improved through closure and rerouting of existing trails and construction of new trails. Key project elements include the following:

Roadways and Vehicular Circulation: At selected sites within the area of potential effect, roads and intersections will be modified to improve safety and operations. Modifications include widening the road widths from two to four feet to allow for the provision of Class 2 bicycle lanes or improved safety on Class 3 bike routes, and reconstructing intersections from a “Y” to a “T” configuration. In addition GGNRA would implement a wayfinding program and “intelligent transportation system” (ITS) technologies to improve visitor information and reduce traffic congestion at key locations.

Parking Management and Fees: In many MH/FB locations parking areas would be reconfigured, delineated, and formalized, in order to improve parking operations, reduce congestion, better match parking supply with demand, and reduce natural resource impacts. A parking fee program would be implemented to provide enhanced transit service operations.

Bicycle and Pedestrian Improvements: Class 1 bicycle path and Class 2 bicycle lanes would be added in several locations, and extensive improvements to pedestrian trails would be implemented. A new bicycle/pedestrian trail would be constructed to provide a separate facility connecting Fort Baker to the bike lanes at Barry-Baker tunnel and the Marin Headlands. Rodeo Valley Trail would be widened with a hardened surface between Capehart Housing and Bunker Road at Rodeo Lagoon to provide a Class 1 bicycle path and hiking trail. The Coastal Trail would be rerouted from its current interior Rodeo Valley alignment to a more coastal alignment with spectacular views.

Transit Services: Existing transit services in the MH/FB areas would be enhanced to improve access to and within these areas. The goal would be to provide transit access seven days a week by expanding MUNI and Golden Gate Transit service on existing routes, and by implementing additional park shuttle service.

Car-Free Days and Special Events: A program of car-free days would be established on selected days on a trial basis; after review of the demonstration program, GGNRA may adjust the number of car-free days or the scheduled times and operations. This program would allow visitors to experience these areas with minimal vehicular traffic and would encourage visitors to use alternative modes of transportation to access and travel within GGNRA.

Natural Resource Enhancements: Efforts to protect and enhance natural resources would include restoring the wetland community at the unpaved parking lot at Rodeo Beach; repairing gullies that have eroded due to past poor drainage along Conzelman roadway; and removing fill and restoring wetlands along Rodeo Lagoon/Lake on selected portions of Smith and Bunker Roads.

Scoping and Public Involvement: The Notice of Intent to prepare an EIS was published in the Federal Register on April 10, 2002. Early in the EIS scoping phase three public meetings were hosted in San Francisco, Marin City, and Oakland. The San Francisco meeting occurred on March 26, 2002 during a meeting of the GGNRA Advisory Committee (approximately ten members of the public attended the meeting). The Marin City meeting occurred on April 10, 2002 at the Manzanita Community Center in Marin City (approximately 20 members of the public attended). The Oakland meeting occurred on April 11, 2002 at the Metropolitan Transportation Commission Auditorium in Oakland. Three members of the public attended, along with several agency staff members. In addition GGNRA hosted two Alternatives Refinement Workshops for the public in order to solicit early feedback on the four preliminary alternatives. The workshops were conducted on November 19, 2002 at Tamalpais High School in Mill Valley (approximately 11 community members attended) and on November 26, 2002 at GGNRA Headquarters in San Francisco (approximately 15 community members attended). GGNRA staff prepared and distributed announcements of the meetings to 2,000 individuals and organizations (and these were also distributed at Marin Headlands Visitor Center and posted widely on bulletin boards in Marin County). Summaries of oral comments received at each workshop and written comments from the public have been documented (“Summary of November 2002 Alternatives Refinements Workshops”, Nelson/Nygaard 2003). Comments from these workshops were used to further refine the alternatives and identify the main issues to be addressed in finalizing the Draft EIS. GGNRA also hosted a public forum March 14, 2003 to review initial findings of the Fort Baker Cultural Landscape Report and Marin Headlands-Fort Baker Historic Roads Characterization Study (two individuals attended). The most recent public outreach efforts included updates on project alternatives at the last four of GGNRA's quarterly public meetings beginning with a May 16, 2006 meeting at the Mill Valley Community Center. Regular posting of information updates occurs on GGNRA's Web site (http://parkplanning.nps.gov/goga).

Comments: Copies of the Draft EIS will be sent to affected Federal, Tribal, State and local government agencies, to all interested parties, and those requesting copies. Printed and digital copies (compact disc) of the Draft EIS will be available at GGNRA headquarters and at local libraries. The complete document will be posted on GGNRA's Web site (noted above). All written comments must be postmarked or transmitted no later than sixty days from the date of EPA's notice of filing published in the Federal Register (as soon as this occurs, the confirmed closing date for the comment period will be posted on GGNRA's Web site, and also publcized in all other GGNRA announcements). Written comments may be sent by letter addressed to: General Superintendent, GGNRA, Fort Mason, Bldg. 201, San Francisco, CA 94123 (Attn: MH-FB Transportation Plan). Comments will also be accepted via the Internet at http://parkplanning.nps.gov/goga (click on the project title and follow instructions) or e-mail at goga_planning@nps.gov.

All submissions from organizations or businesses, and from individuals identifying themselves as representatives of or officials of organizations or businesses, are maintained in the project administrative record and will be available for public inspection in their entirety. Before including your address, phone number, e-mail address, or other personal identifying information in your comment, you should be aware that your entire response—including your personal identifying information—may be made publicly available at any time. While you can ask us in your comment to withhold your personal identifying information from public review, we cannot guarantee that we will be able to do so.

A public meeting will be scheduled to hear comments on the Draft EIS, approximately 30 days after publication of this notice in the Federal Register. Please visit GGNRA's Web site (noted above) to learn more about the project or the conservation planning/environmental impact analysis process, or to obtain information updates regarding the logistics of the public meeting. Questions regarding the Draft EIS may also be directed at any time to Mr. Steve Ortega at (415) 561-4841 (or goga_planning@nps.gov.

Decision Process: Following the careful analysis of all comments received concerning the Draft EIS, it is anticipated that the Final EIS for the proposed Transportation Infrastructure and Management Plan would be completed in fall 2007. Availability of the Final EIS will be announced in the Federal Register, and also publicized via local and regional press media, direct mailings, and Web site postings. Not sooner than thirty days after release of the Final EIS, a Record of Decision may be executed (at this time it is anticipated that a recommended decision would be developed during winter 2007-08). As a delegated EIS the approving official is the Regional Director, Pacific West Region. Subsequently, the official responsible for implementation of the approved plan will be the General Superintendent, Golden Gate National Recreation Area.

Dated: May 31, 2007.
Jonathan B. Jarvis,
Regional Director, Pacific West Region.

[FR Doc. 07-2880 Filed 6-11-07; 8:45 am]

BILLING CODE 4312-FN-M